ENVIRONMENTAL PROTECTION AGENCY

[OPPT-2002-0076; FRL-7292-3]

Pollution Prevention Grants and Announcement of Financial Assistance Programs Eligible for Review; Notice of Availability

AGENCY: Environmental Protection Agency (EPA).

ACTION: Notice.

SUMMARY: EPA expects to have approximately $5 million available in fiscal year 2003 grant/cooperative agreement funds under the Pollution Prevention (P2) grant program. Grants/cooperative agreements will be awarded under the authority of the Pollution Prevention Act (PPA) of 1990, subject to the availability of funds at the time of award. The Pollution Prevention Act of 1990 and 40 CFR part 35, subpart B authorize EPA to award grant funds to State, Tribes, and Intertribal Consortia programs that address the reduction or elimination of pollution across environmental media (air, land, and water) and to strengthen the efficiency and effectiveness of pollution prevention technical assistance programs in providing source reduction information to businesses. This notice describes the procedures and criteria for the award of these grants.

FOR FURTHER INFORMATION CONTACT: For general information contact: Barbara Cunningham, Acting Director, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Lena Ferris, Pollution Prevention Division (7409), Office Pollution Prevention and Toxics, Environmental Protection Agency, 1200 Pennsylvania Ave., NW., Washington, DC 20460-0001; telephone number: (202) 564-8831; e-mail address: ferris.lena@epa.gov.

SUPPLEMENTARY INFORMATION:

I. General Information

A. Does this Action Apply to Me?

This action is directed to States (including state universities), Tribes and Intertribal Consortia. This notice may, however, be of interest to local governments, private universities, private nonprofit entities, private businesses, and individuals who are not eligible for this grant program. If you have any questions regarding the applicability of this action to a particular entity, contact the technical person listed in the FOR FURTHER INFORMATION CONTACT.

B. How Can I Get Copies of this Document and Other Related Information?

1. Docket. EPA has established an official public docket for this action under docket identification (ID) number OPPT-2002-0076. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in the EPA Docket Center, is (202) 566-0280.

2. Electronic access. You may access this Federal Register document electronically through the EPA Internet under the “Federal Register” listings at http://www.epa.gov/fedrgstr/. This document will also be available at the EPA P2 Web site at http://www.epa.gov/p2. A frequently updated electronic version of 40 CFR part 35 is available at http://www.access.gpo.gov/nara/cfr/cfrhtml_00/Title_40/40cfr35_00.html and of 40 CFR part 31 at http://www.access.gpo.gov/nara/cfr/cfrhtml_00/Title_40/40cfr31_00.html, both beta sites currently under development.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket identification number.

II. Background of the Pollution Prevention Grant Program

More than $80 million has been awarded to over 100 State and Tribal organizations under EPA's multimedia P2 grant program, since its inception in 1989. During the past 13 years, P2 grant funds have established and enabled State and Tribal programs to implement a wide range of pollution prevention activities. P2 grants provide economic benefits to small businesses by funding pollution prevention technical assistance programs focused on helping the businesses develop more efficient production technologies and operate more cost effectively.

The goal of the P2 grant program is to assist businesses and industries in identifying better environmental strategies and solutions for reducing waste at the source. The majority of the P2 grants fund State-based projects in the areas of technical assistance and training, education and outreach, regulatory integration, data collection and research, demonstration projects, and recognition programs.

In November 1990, the Pollution Prevention Act of 1990 (Public Law 101-508) was enacted, establishing as national policy that pollution should be prevented or reduced at the source whenever feasible.

1. Section 6603 of the Pollution Prevention Act of 1990 defines source reduction as any practice that:

i. Reduces the amount of any hazardous substance, pollutant, or contaminant entering any waste stream or otherwise released into the environment (including fugitive emissions) prior to recycling, treatment, or disposal.

ii. Reduces the hazards to public health and the environment associated with the release of such substances, pollutants, or contaminants.

EPA further defines pollution prevention as the use of other practices that reduce or eliminate the creation of pollutants through increased efficiency in the use of raw materials, energy, water, or other resources, or protection of natural resources, or protection of natural resources by conservation.

2. Section 6605 of the Pollution Prevention Act of 1990 and 40 CFR part 35, subpart B authorizes EPA to make matching grants to promote the use of source reduction techniques by businesses. In evaluating grant applications, the Pollution Prevention Act of 1990 directs EPA to consider whether the proposed program will:

i. Make specific technical assistance available to businesses seeking information about source reduction opportunities, including funding for experts to provide onsite technical advice and to assist in the development of source reduction plans.

ii. Target assistance to businesses for which lack of information is an impediment to source reduction.

iii. Provide training in source reduction techniques.

III. Availability of FY 2003 Funds

EPA expects to have approximately $5 million in grant/cooperative agreement funds available for FY 2003-2004 pollution prevention activities. The Agency has delegated grant making authority to the EPA regional offices. EPA regional offices are responsible for the solicitation of interest and the screening of proposals. The Agency reserves the right to reject all initial proposals and make no awards.

In addition to the statutory criteria discussed in Unit II., all applicants must address all five of the national program criteria listed in Unit VI.B.2. EPA invites applicants to submit proposals that make the case for how their work will address P2 priorities on the national, Tribal, regional, and State level. Interested applicants should contact their EPA Regional Pollution Prevention Coordinator, listed in Unit X. for more information.

The 2003 Pollution Prevention Grant Guidance is located at http://www.epa.gov/p2/grants/ppis/ppis.htm.

IV. Catalogue of Federal Domestic Assistance

The number assigned to the P2 grant program in the Catalogue of Federal Domestic Assistance is 66.708 (formerly 66.900).

V. Matching Requirements

States, Tribes, and Intertribal Consortia recipients of P2 grants under section 6605 of the PPA must provide at least 50% of the total allowable project cost. For example, the Federal Government will provide half of the total allowable cost of the project, and the recipient will provide the other half. Recipients may meet the match requirements by allowable costs incurred by the grantee (often referred to as “in-kind goods or services”) or the value of third party in-kind contributions consistent with 40 CFR 31.24. If a Tribe or Intertribal Consortium is selected for award of a P2 grant and the Tribe includes the funds in a Performance Partnership Grant awarded under 40 CFR part 35, subpart B, the required Tribal match for the Pollution Prevention portion of the P2 grant will be reduced to 5% of the allowable Pollution Prevention project cost for the first 2 years of the P2 grant.

VI. Eligibility

A. Applicants

Eligible applicants for purposes of funding under this program include the 50 States, the District of Columbia, the U.S. Virgin Islands, the Commonwealth of Puerto Rico, any territory of or possession of the United States, any agency or instrumentality of a State including State universities, and Indian tribes that meet the requirement for treatment in a manner similar to a state at 40 CFR 35.663 and Intertribal Consortia that meet the requirements at 40 CFR 35.504. Local governments, private universities, private nonprofit, private businesses, and individuals are not eligible for funding. Eligible applicants are encouraged to establish partnerships with business and other environmental assistance providers to seamlessly deliver pollution prevention assistance. Successful applicants will be those that best meet the evaluation criteria in Unit VI.B.2. In many cases, this is likely to be accomplished through partnerships.

B. Activities and Criteria

1. General. EPA specifically seeks to build pollution prevention capabilities or to test innovative pollution prevention approaches and methodologies. Funds awarded under the P2 grant program must be used to support pollution prevention programs that address the transfer and reduction of potentially harmful pollutants across environmental media: Air, water, and land. Programs should reflect comprehensive and coordinated pollution prevention planning and implementation efforts.

2. National program criteria for 2003. This section describes the five national program criteria EPA will use to evaluate proposals under the P2 grant program. In addition to the statutory criteria and the national program criteria, there may be regionally specific criteria that the proposed activities are also required to address. For more information on the EPA regional requirements, applicants should contact their EPA Regional Pollution Prevention Coordinator, listed in Unit X. As well as ensuring that the proposed activities meet EPA's definition of pollution prevention, the applicant's proposal must include how they address the following five criteria:

i. Promote multimedia pollution prevention. Applicants should identify how projects will encourage source reduction to actively prevent pollution across environmental media: Air, water and land. Programs should reflect comprehensive and coordinated pollution prevention planning and implementation efforts. Pollution prevention programs can develop multimedia pollution prevention activities which provide technical assistance to businesses, institutionalize multimedia pollution prevention as a environmental management priority, or initiate demonstration projects that test and support innovative pollution prevention approaches and methodologies.

ii. Advance environmental goals. EPA believes that State and Tribal pollution prevention programs have a unique opportunity to promote pollution prevention, especially through the environmental performance agreements. By developing applications that support stated environmental goals, pollution prevention programs can help ensure that States and Tribes achieve objectives through a cost-effective preventive approach. Pollution prevention programs will continue to be valuable to top management if they can demonstrate how their actions will help advance stated goals. EPA would like to ensure that pollution prevention is integrated and that the funds provide a service that supports each State's or Tribes strategic plan. EPA will not fund any projects developed apart from those included in the stated strategic plans.

iii. Promote accomplishments within State's environmental programs. EPA realizes the importance of being able to document the effectiveness of the program back to the affected media office. EPA added this application criteria to create the necessary link between the regulatory program and the pollution prevention program activities to ensure that the affected offices know the good work that is being done within their sectors/programs/geographic areas. By periodically documenting the proposed activities' accomplishments, grantees will help media program managers understand the benefits of their delivered services. By creating this positive feedback mechanism to the regulatory program, the grantee can market their accomplishments and help promote the sustainability of the P2 program.

iv. Promote partnerships. For the past 6 years, EPA has required P2 grant applicants to identify major environmental assistance providers in their area and to work with these organizations to educate businesses on pollution prevention. EPA believes that pollution prevention programs that do not develop a strong relationship with other environmental assistance providers will face difficulties accessing State and Federal resources in the future.

EPA continues to seek more cooperation among State and Tribal pollution prevention programs and the other environmental and business assistance providers. These can include university-based technical assistance and cooperative extension programs, and other State-based assistance programs. Partnerships are also encouraged with regional and national programs such as the Pollution Prevention Resource Exchange (P2Rx) centers, National Institute of Standards and Technology (NIST) programs, Office of Enforcement and Compliance Assistance (OECA) Compliance Assistance Centers, EPA's Small Business Assistance Programs (SBAPs), etc.

By developing such partnerships, EPA would like to ensure that pollution prevention programs leverage this outside expertise. This partnership will also reduce the need for other environmental assistance providers to develop their own expertise, which would result in duplication of effort.

v. Estimate environmental impact. Applicants are requested to estimate the environmental impact from their proposed activities. This would be a quantifiable number that provides an estimation of waste reduction expected. Many of the EPA regional offices have negotiated with their States specific measurement structures which may provide appropriate frameworks for estimating environmental impact.

3. Program management. Awards for FY 2003 funds will be managed through the EPA regional offices. Applicants should contact their EPA Regional Pollution Prevention Coordinator, listed in Unit X. or view the 2003 Pollution Prevention Grant Guidance located at http://www.epa.gov/p2/grants/ppis/ppis.htm to obtain specific regional requirements and deadlines for submitting proposals. National funding decisions will be made by June 2003.

VII. Proposal Narrative Format

The proposed work plan must meet the requirements for an approvable work plan at 40 CFR 35.107 or 35.507.

VIII. Applicable Regulations

State applicants and recipients of P2 grants are subject to the requirements of 40 CFR parts 31 and 35, subpart A. Tribal and Intertribal Consortia applicants and recipients of P2 grants are subject to the requirements of 40 CFR parts 31 and 35, subpart B.

IX. Reporting

The work plans and reporting must be consistent with the requirements of 40 CFR 35.107, 35.115, 35.507, and 35.515.

The grantee, along with the Regional Project Officer, will develop a process for jointly evaluating and reporting progress and accomplishments under the work plan (see 40 CFR 35.115 and 35.515). A description of the evaluation process and a reporting schedule must be included in the work plan (see 40 CFR 35.107(b)(2)(iv) and 35.507(b)(2)(iv)).

The evaluation process must provide for:

1. A discussion of accomplishments as measured against work plan commitments.

2. A discussion of the cumulative effectiveness of the work performed under all work plan components.

3. A discussion of existing and potential problem areas.

4. Suggestions for improvement, including, where feasible, schedules for making improvements.

EPA's Pollution Prevention Division has created an optional progress report format to facilitate national reporting on status of P2 grant activities. A copy of the report format is included in the grant guidance located on the P2 Grant Program Web site (http://www.epa.gov/p2/grants/ppis/ppis.htm). This progress report format is not required but has been used in several States for the past year.

X. Regional Pollution Prevention Coordinators

Region I: (Connecticut, Maine, Massachusetts, New Hampshire, Rhode Island, Vermont) Rob Guillemin, 1 Congress St. (SPP), Boston, MA 02203; telephone number: (617) 918-1814 or (617) 918-1841; e-mail address: guillemin.robert@epa.gov.

Region II: (New Jersey, New York, Puerto Rico, Virgin Islands) Tristen Gillespie (SPMMB), 290 Broadway, 25th Floor, New York, NY 10007; telephone number: (212) 637-3753; e-mail address: gillespie.tristen@epa.gov.

Region III: (Delaware, District of Columbia, Maryland, Pennsylvania, Virginia, West Virginia) Lorna Rosenberg (3E100), 1650 Arch St., Philadelphia PA 19103-2029; telephone number: (215) 814-5389; e-mail address: rosenberg.lorna@epa.gov.

Region IV: (Alabama, Florida, Georgia, Kentucky, Mississippi, North Carolina, South Carolina, Tennessee) Dan Ahern, Atlanta Federal Center, 61 Forsyth St., SW., Atlanta, GA 30303; telephone number: (404) 562-9028; e-mail address: ahern.dan@epa.gov.

Region V: (Illinois, Indiana, Michigan, Minnesota, Ohio, Wisconsin) Phil Kaplan (DW-8J), 77 West Jackson Blvd., Chicago, IL 60604-3590; telephone number: (312) 353-4669; e-mail address: kaplan.phil@epa.gov.

Region VI: (Arkansas, Louisiana, New Mexico, Oklahoma, Texas) Eli Martinez (6EN-XP), 1445 Ross Ave., 12th Floor, Suite 1200, Dallas, TX 75202; telephone number: (214) 665-2119; e-mail address: martinez.eli@epa.gov.

Region VII: (Iowa, Kansas, Missouri, Nebraska) Gary Bertram (ARTD/TSPP), 901 N 5th St., Kansas City, KS 66101; telephone number: (913) 551-7533; e-mail address: bertram.gary@epa.gov.

Region VIII: (Colorado, Montana, North Dakota, South Dakota, Utah, Wyoming) Linda Walters (8P-P3T), 999 18th St., Suite 300, Denver, CO 80202-2405; telephone number: (303) 312-6385, e-mail address: walters.linda@epa.gov.

Region IX: (American Samoa, Arizona, California, Guam, Hawaii, Nevada) Leif Magnuson (WST-7), 75 Hawthorne Ave., San Francisco, CA 94105; telephone number: (415) 972-3286; e-mail address: magnuson.leif@epa.gov.

Region X: (Alaska, Idaho, Oregon, Washington) Carolyn Gangmark, 01-085, 1200 Sixth Ave., Seattle, WA 98101; telephone number: (206) 553-4072; e-mail address: gangmark.carolyn@epa.gov.

XI. Congressional Review Act

Grant solicitations such as this are considered rules for the purpose of the Congressional Review Act (CRA). The CRA, 5 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This is not a “major rule” as defined by 5 U.S.C. 804(2).

List of Subjects

Environmental protection, Grants, Pollution prevention.

Q P='04'>

Dated: February 26, 2003.
Stephen L. Johnson,
Assistant Administrator, Office of Prevention, Pesticides, and Toxic Substances.

[FR Doc. 03-5621 Filed 3-7-03; 8:45 am]

BILLING CODE 6560-50-S